DEPARTMENT OF COMMERCE

International Trade Administration

[A-570-827]

Certain Cased Pencils From the People's Republic of China: Rescission of Antidumping Duty Administrative Review; 2016-2017

AGENCY: Enforcement and Compliance, International Trade Administration, Department of Commerce.

SUMMARY: The Department of Commerce (Commerce) is rescinding the administrative review of the antidumping duty order on certain cased pencils (pencils) from the People's Republic of China (China) for the period of review (POR) December 1, 2016, through November 30, 2017.

DATES: Applicable June 18, 2018.

FOR FURTHER INFORMATION CONTACT: Sergio Balbontin, AD/CVD Operations, Office VIII, Enforcement and Compliance, International Trade Administration, U.S. Department of Commerce, 1401 Constitution Avenue NW, Washington, DC 20230; telephone: (202) 482-6478.

SUPPLEMENTARY INFORMATION:

Background

On December 4, 2017, Commerce published a notice of opportunity to request an administrative review of the antidumping duty order on pencils from China for the POR December 1, 2016, through November 30, 2016.¹

¹ See Antidumping or Countervailing Duty Order, Finding, or Suspended Investigation; Opportunity to Request Administrative Review, 82 FR 57219 (December 4, 2017).

On December 29, 2017, Dixon Ticonderoga Company (the petitioner) requested an administrative review of the order with respect to entries of subject merchandise made by Shandong Rongxin Import & Export Co., Ltd. (Rongxin), Wah Yuen Stationery Co. Ltd., and any affiliated entities including but not limited to Shandong Wah Yuen Stationery Co. Ltd. and Tianjin Tonghe Stationery Co. Ltd. (collectively, the Wah Yuen entity).² On January 2, 2018, Orient International Holding Shanghai Foreign Trade Co., Ltd. (SFTC) requested an administrative review of itself.³ On February 23, 2018, in accordance with section 751(a) of the Tariff Act of 1930, as amended (the Act) and 19 CFR 351.221(c)(1)(i), we initiated an administrative review with respect to (1) Rongxin, (2) the Wah Yuen entity, and (3) SFTC.⁴ On April 9, 2018, SFTC withdrew its request for an administrative review.⁵ On May 23, 2018, the petitioner withdrew its request for an administrative review of Rongxin and the Wah Yuen entity.⁶ No other party requested an administrative review of this order.

² See Petitioner's Letter, “Certain Cased Pencils from the People's Republic of China: Request for Administrative Review,” dated December 29, 2017.

³ See SFTC's Letter, “Request for Administrative Review of the Antidumping Duty Order on Certain Cased Pencils from the People's Republic of China, A-570-827,” dated January 2, 2018.

⁴ See Initiation of Antidumping and Countervailing Duty Administrative Reviews, 83 FR 8058 (February 23, 2018) (Initiation Notice).

⁵ See SFTC's Letter, “Orient International Holding Shanghai Foreign Trade Co., Ltd.'s Withdrawal of Request for Review: Administrative Review of the Antidumping Duty Order on Cased Pencils from the People's Republic of China,” dated April 9, 2018.

⁶ See Petitioner's Letter, “Certain Cased Pencils from the People's Republic of China: Withdrawal of Request for Administrative Review,” dated May 23, 2018.

Rescission of Review

Pursuant to 19 CFR 351.213(d)(1), Commerce will rescind an administrative review, in whole or in part, if the party that requested the review withdraws its request within 90 days of the publication of the notice of initiation of the requested review. In this case, SFTC and the petitioner timely withdrew their requests by the 90-day deadline and no other party requested an administrative review of the antidumping duty order. Therefore, we are rescinding the administrative review of the antidumping duty order on pencils from China for the POR December 1, 2016, through November 30, 2017, in its entirety, in accordance with 19 CFR 351.213(d)(1).

Assessment

Commerce will instruct U.S. Customs and Border Protection (CBP) to assess antidumping duties on all appropriate entries of pencils from China during the POR at rates equal to the cash deposit rate of estimated antidumping duties required at the time of entry, or withdrawal from warehouse, for consumption, in accordance with 19 CFR 351.212(c)(1)(i). Commerce intends to issue appropriate assessment instructions to CBP 15 days after the date of publication of this notice in the Federal Register.

Notification to Importers

This notice serves as the only reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Orders

This notice also serves as the only reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a violation which is subject to sanction.

This notice is issued and published in accordance with sections 751(a)(1) and 777(i)(1) of the Act, and 19 CFR 351.213(d)(4).

Dated: June 12, 2018.
James Maeder,
Associate Deputy Assistant Secretary for Antidumping and Countervailing Duty Operations performing the duties of Deputy Assistant Secretary for Antidumping and Countervailing Duty.

[FR Doc. 2018-12997 Filed 6-15-18; 8:45 am]

BILLING CODE 3510-DS-P